DEPARTMENT OF COMMERCE

National Oceanic and Atmospheric Administration

50 CFR Part 300

[Docket No. 180202117-8117-01]

RIN 0648-BH58

Pacific Halibut Fisheries; Catch Sharing Plan

AGENCY: National Marine Fisheries Service (NMFS), National Oceanic and Atmospheric Administration (NOAA), Commerce.

ACTION: Interim final rule; request for comments.

SUMMARY: NMFS is implementing this interim final rule to establish regulations for 2018 Pacific halibut catch limits in the following International Pacific Halibut Commission (IPHC) Regulatory Areas: Area 2C (Southeast Alaska), Area 3A (Central Gulf of Alaska), Area 3B (Western Gulf of Alaska), and Area 4 (subdivided into five areas, 4A through 4E, in the Bering Sea and Aleutian Islands of Western Alaska). This interim final rule revises a catch sharing plan (CSP) for guided sport (charter) and commercial individual fishing quota (IFQ) halibut fisheries in Area 2C and Area 3A, revises regulations applicable to the charter halibut fisheries in Area 2C and Area 3A, and revises a CSP for the commercial IFQ and Western Alaska Community Development Quota (CDQ) halibut fisheries in Areas 4C, 4D, and 4E. This action is necessary because the IPHC, at its annual meeting, did not recommend new catch limits or specific CSP allocations and charter management measures for Areas 2C, 3A, 3B, 4A, 4B, 4C, 4D, and 4E for 2018, and the 2017 IPHC regulations are in effect until superseded. This interim final rule is necessary because immediate action is needed to ensure that halibut catch limits, charter halibut fishery management measures, and CSP allocations are in place at the start of the commercial IFQ and CDQ halibut fishery on March 24, 2018, that better protect the declining Pacific halibut resource. This action is intended to enhance the conservation of Pacific halibut and is within the authority of the Secretary of Commerce (Secretary) to establish additional regulations governing the taking of halibut which are more restrictive than those adopted by the IPHC.

DATES: Effective March 19, 2018, through December 31, 2018. Comments must be received by April 19, 2018.

ADDRESSES: Submit comments, identified by docket number NOAA-NMFS-2018-0024, by either of the following methods:

• Electronic Submission: Go to www.regulations.gov/#!docketDetail;D=NOAA-NMFS-2018-0024, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period may not be considered by NMFS. All comments received are a part of the public record and will be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the environmental assessment (EA), and the Regulatory Impact Review (RIR), collectively (Analysis), prepared for this interim final rule are available from http://www.regulations.gov or from the NMFS Alaska Region website at http://alaskafisheries.noaa.gov.

Additional requests for information regarding halibut may be obtained by contacting the International Pacific Halibut Commission, 2320 W. Commodore Way, Suite 300, Seattle, WA 98199-1287; or Sustainable Fisheries Division, NMFS Alaska Region, P.O. Box 21668, Juneau, AK 99802, Attn: Ellen Sebastian, Records Officer; or Sustainable Fisheries Division.

FOR FURTHER INFORMATION CONTACT: Glenn Merrill, 907-586-7228.

SUPPLEMENTARY INFORMATION:

Background

The IPHC can recommend regulations that govern the Pacific halibut fishery, pursuant to the Convention between Canada and the United States of America for the Preservation of the Halibut Fishery of the Northern Pacific Ocean and Bering Sea (Convention), Mar. 2, 1953, 5 U.S.T. 5, and the Protocol Amending the Convention Between Canada and the United States of America for the Preservation of the Halibut Fishery of the Northern Pacific Ocean and Bering Sea (Protocol), Mar. 29, 1979, 32 U.S.T. 2483. The IPHC's regulatory areas (Areas) are: Area 2A (California, Oregon, and Washington); Area 2B (British Columbia); Area 2C (Southeast Alaska), Area 3A (Central Gulf of Alaska), Area 3B (Western Gulf of Alaska), and Area 4 (subdivided into five areas, 4A through 4E, in the Bering Sea and Aleutian Islands of Western Alaska). These Areas are described at 50 CFR part 679, Figure 15.

Pursuant to the Northern Pacific Halibut Act of 1982 (Halibut Act) at 16 U.S.C. 773b, the Secretary of State, with the concurrence of the Secretary of Commerce, may accept or reject, on behalf of the United States, regulations recommended by the IPHC in accordance with the Convention. On February 26, 2018, the Secretary of State, with the concurrence of the Secretary of Commerce, accepted the 2018 IPHC regulations agreed upon and recommended by the IPHC as provided by the Halibut Act at 16 U.S.C. 773b. Pacific Halibut Fisheries; Catch Sharing Plan, 83 FR 10390, March 9, 2018.

The Halibut Act provides the Secretary of Commerce with general responsibility to carry out the Convention under the Halibut Act (16 U.S.C. 773c(a) and (b)). This general responsibility includes adopting such regulations, in consultation with the U.S. Coast Guard, as may be necessary to carry out the purposes and objectives of the Convention and the Halibut Act (16 U.S.C. 773c(b)). The Regional Fishery Management Councils may develop, and the Secretary of Commerce may implement, regulations governing harvesting privileges among U.S. fishermen in U.S. waters which are in addition to, and not in conflict with, regulations adopted by the IPHC (16 U.S.C. 773c(c)). Id.; Protocol, Article 1. Also, the North Pacific Fishery Management Council (NPFMC) has exercised this authority most notably in developing halibut management programs for three fisheries that harvest halibut in Alaska: The subsistence, sport, and commercial fisheries. The Pacific Fishery Management Council (PFMC) has exercised this authority by developing a catch sharing plan governing the allocation of halibut and management of sport fisheries on the U.S. West Coast. See 50 CFR part 300 and Pacific Halibut Catch Sharing Plan for Area 2A available on the PFMC website (http://www.pcouncil.org/wp-content/uploads/2017/02/Final_2017_PACIFIC_HALIBUT_CATCH_SHARING_PLAN_FOR_AREA_2A.pdf).

Relevant to this interim final rule, the Secretary exercised the authority under Article I of the Convention and 16 U.S.C. 773c(a) and (b) in 1990 to implement regulations on commercial and sport catch limits that were more restrictive than the IPHC regulations published in 1989 because the IPHC, at its annual meeting in 1990, did not approve new management measures for 1990 (62 FR 11929, March 30, 1990). The regulations published in 1989 were in effect until superseded.

Specific to this interim final rule, the Secretary is implementing, under those same authorities, catch limits in Areas: 2C, 3A, 3B, 4A, 4B, 4C, 4D, and 4E, catch sharing plan (CSP) allocations for charter and commercial IFQ halibut fisheries in Area 2C and Area 3A, charter halibut management measures in Areas 2C and 3A, and CSP allocations for the commercial IFQ and CDQ halibut fisheries in Areas 4C, 4D, and 4E that are necessary to carry out the purposes and objectives of the Convention. The Secretary is using an interim final rule because the 2017 IPHC regulations are in effect until superseded and more restrictive management measures to conserve the Pacific halibut resource are needed prior to the March 24, 2018, opening date.

Subsistence and sport halibut fishery regulations for Alaska are codified at 50 CFR part 300. Commercial halibut fisheries in Alaska are subject to the IFQ Program and CDQ Program (50 CFR part 679) regulations, and the area-specific catch sharing plans (CSPs) for Areas 2C, 3A, and Areas 4C, 4D, and 4E.

The NPFMC implemented a CSP among commercial IFQ and CDQ halibut fisheries in IPHC Regulatory Areas 4C, 4D, and 4E (commonly referred to as Area 4CDE, Western Alaska) through rulemaking, and the Secretary of Commerce approved the plan on March 20, 1996 (61 FR 11337). The Area 4 CSP regulations were codified at 50 CFR 300.65, and were amended on March 17, 1998 (63 FR 13000). New annual regulations pertaining to the Area 4 CSP also may be implemented through regulations established by the Secretary that are necessary to carry out the purposes and objectives of the Convention.

The NPFMC recommended and NMFS implemented through rulemaking a CSP for charter and commercial IFQ halibut fisheries in IPHC Regulatory Area 2C and Area 3A on January 13, 2014 (78 FR 75844, December 12, 2013). The Area 2C and 3A CSP regulations are codified at 50 CFR 300.65. The CSP defines an annual process for allocating halibut between the commercial and charter fisheries so that each sector's allocation varies in proportion to halibut abundance, specifies a public process for setting charter fishery management measures, and authorizes limited annual leases of commercial IFQ for use in the charter fishery as guided angler fish (GAF).

The IPHC held its annual meeting in Portland, Oregon, from January 22 through 26, 2018, and recommended a number of changes to the 2017 IPHC regulations (82 FR 12730, March 7, 2017). The Secretary of State accepted the annual management measures, including the following changes to the previous IPHC regulations for 2018 pertaining to:

1. New commercial halibut fishery opening and closing dates in Section 9;

2. Revisions to existing regulations to clarify the requirement for commercial halibut to be landed and weighed with the head attached;

3. Modifications that align IPHC regulations to recent NPFMC actions that would allow CDQ groups to lease (receive by transfer) halibut quota share (QS) in Areas 4B, 4C, and 4D;

4. A minor revision to clarify that halibut harvested on a charter vessel fishing trip in Area 2C or Area 3A must be retained on board the vessel on which the halibut was caught until the end of the fishing trip;

5. Addition of language to existing regulations that clarifies the skin-on requirement of halibut that are retained and cut into sections on board a sport fishing vessel;

6. Changes to allow halibut to be taken with pot gear under specific circumstances provided in NMFS regulations;

7. Revisions to the management measures for Area 2C and Area 3A charter halibut anglers that close three Tuesdays to charter halibut fishing. The dates for the 2017 closures are revised to conform to specific dates in 2018; and

8. Minor revisions to standardize terminology and clarify the regulations, including a new table to specify the commercial, sport, and Treaty fishing catch limits for all IPHC regulatory areas.

Pursuant to regulations at 50 CFR 300.62, the 2018 IPHC annual management measures recommended by the IPHC and accepted by the Secretary of State were published in the Federal Register to provide notice of their immediate regulatory effectiveness and to inform persons subject to the regulations of their restrictions and requirements (83 FR 10390, March 9, 2018).

At its 2018 annual meeting, the IPHC did not recommend:

1. New catch limits in any IPHC regulatory area;

2. Revised CSP allocations for charter and commercial IFQ halibut fisheries in Area 2C and Area 3A;

3. Revised charter halibut management measures in Areas 2C and 3A; or

4. Revised CSP allocations for the commercial IFQ and CDQ halibut fisheries in Areas 4C, 4D, and 4E.

All of the catch limits, CSP allocations, and charter management measures considered for recommendation by the IPHC in 2018 were intended to reduce the harvest of halibut compared to 2017 because the biological information presented by the IPHC scientists indicated that the spawning biomass, and the biomass available to the halibut fisheries, is projected to decline. The rate of fishing mortality is projected to increase over the next several years if harvests are not reduced relative to 2017.

Although the United States and Canada voiced consensus at the IPHC's January 2018 annual meeting that some reduction in catch limits relative to 2017 in all Areas was appropriate, U.S. and Canadian Commissioners could not agree on specific catch limits for 2018. Therefore, the IPHC did not make a recommendation to the Secretary of State to revise the catch limits that were recommended and implemented in 2017. Because the U.S. and Canadian Commissioners could not reach agreement on the specific catch limits in each Area, the IPHC did not provide specific recommendations to revise the allocations resulting from the CSP for charter and commercial IFQ halibut fisheries in Area 2C and Area 3A, charter halibut management measures in Areas 2C and 3A, or the allocations resulting from the CSP for the commercial IFQ and CDQ halibut fisheries in Areas 4C, 4D, and 4E.

Although the U.S. and Canada could not agree on specific catch limits, the U.S. Commissioners did endorse specific catch limits that would apply to waters off Alaska (Areas 2C through 4), and specific allocations and charter management measures based on the CSPs in place. NMFS, consistent with the authority under the Convention and the Halibut Act, is implementing the catch limits, allocations resulting from the CSPs, and charter management measures endorsed by the U.S. Commissioners for 2018. These measures are intended to meet the conservation and management objectives of the IPHC and the NPFMC. The following sections of this preamble describe the rationale for the catch limits, CSP allocations, and charter management measures being implemented in Areas 2C, 3A, 3B, 4A, 4B, 4C, 4D, and 4E under this interim final rule. The catch limit for Area 2A is being addressed in a separate rule.

Catch Limits

In 2017, the IPHC conducted its annual stock assessment using a range of updated data sources as described in detail in the 2018 IPHC Report of Assessment and Research Activities (2018 RARA; available at www.iphc.int). The IPHC used an “ensemble” of four equally weighted models, comprised of two long time-series models, and two short time-series models that use data series either divided by geographical region (IPHC Regulatory Area) or aggregated into coastwide summaries, to evaluate the Pacific halibut stock. These models incorporate data from the 2017 IPHC survey, the 2017 commercial halibut fishery, the most recent NMFS trawl survey, weight-at-age estimates by region, and age distribution information for bycatch, sport, and sublegal discard removals. As has been the case since 2012, the results of the ensemble models are integrated, and incorporate uncertainty in natural mortality rates, environmental effects on recruitment, and other structural and parameter categories. The data and assessment models used by the IPHC are reviewed by the IPHC's Scientific Review Board comprised of non-IPHC scientists who provide an independent scientific review of the stock assessment data and models and provide recommendations to IPHC staff and to the Commission. The Scientific Review Board did not identify any substantive errors in the data or methods used in the 2017 stock assessment. NMFS believes the IPHC's data and assessments models constitute best available science on the status of the Pacific halibut resource.

The IPHC's data, including the setline survey, indicates that the Pacific halibut stock declined continuously from the late 1990s to around 2010, as a result of decreasing size at a given age (size-at-age), as well as somewhat weaker recruitment strengths than those observed during the 1980s. The biomass of spawning females is estimated to have stabilized near 200,000,000 pounds (90,718 mt) in 2010, and since then the stock is estimated to have increased gradually until 2017.

The 2017 stock assessment projects that the biomass of spawning females at the beginning of 2018 is estimated to be 202,000,000 pounds (91,626 mt). Data from the 2017 stock assessment indicate that recent recruitments of recent age classes (cohorts) of Pacific halibut are estimated to be smaller than any recruitment from 1999 through 2005. This indicates a high probability of decline in the female spawning stock biomass in future years.

The IPHC presented biological information indicating the effect of a range of different catch limits on the spawning stock biomass and the harvestable yield over the period from 2019 through 2021. Specifically, the IPHC staff provided information describing the potential implications of three alternative catch limits:

• Alternative 1 (status quo): Maintain catch limits in Areas 2C, 3A, 3B, 4A, 4B, 4C, 4D, and 4E, and charter management measures in Areas 2C and 3A equal to those adopted by the IPHC in 2017.

• Alternative 2 (implemented in this rule): Reduce catch limits in Areas 2C, 3A, 3B, 4A, 4B, 4C, 4D, and 4E, and modify charter management measures in Areas 2C and 3A, as endorsed by the U.S. Commissioners but not recommended by the IPHC at the 2018 IPHC Annual Meeting.

• Alternative 3: Reduce catch limits in Areas 2C, 3A, 3B, 4A, 4B, 4C, 4D, and 4E, and modify charter management measures in Areas 2C and 3A consistent with the IPHC's interim management procedure.

The IPHC's interim management procedure (reference fishing intensity of F46% SPR) seeks to maintain the total mortality of halibut across its range from all sources based on a reference level of fishing intensity so that the Spawning Potential Ratio (SPR) is equal to 46 percent. The reference fishing intensity of F46% SPR seeks to allow a level of fishing intensity that is expected to result in approximately 46 percent of the spawning stock biomass per recruit compared to an unfished stock (i.e., no fishing mortality). Lower values indicate higher fishing intensity. Additional information on the status of the halibut resource under these catch limit alternatives is provided in the Analysis (see ADDRESSES).

The following sections of this preamble provide a comparison of the relative risk of a decrease in stock abundance, status, or fishery metrics, for a range of alternative catch levels for 2018 under each of these three alternative catch limit scenarios. This comparison assumes that other sources of mortality from bycatch, personal use, sport (not included in CSPs), subsistence, and the rates of discard mortality in the recreational and commercial fisheries are similar to those observed in 2017. This interim final rule refers to halibut catch limits, commercial and charter allocations and removals in net pounds or net metric tons. Net pounds and net metric tons are defined as the weight of halibut from which the gills, entrails, head, and ice and slime have been removed. This terminology is used in this interim final rule to be consistent with the IPHC, which establishes catch limits and calculates mortality in net pounds.

Although this interim final rule addresses catch limits in Areas 2C, 3A, 3B, 4A, 4B, 4C, 4D, and 4E, this interim final rule describes the impacts on the halibut resource on a coastwide basis, consistent with the current management and known biological distribution of the halibut resource. Because the 2017 catch limits in Areas 2C, 3A, 3B, 4A, 4B, 4C, 4D, and 4E comprise the largest portion of catch limits in all Areas (22,620,000 pounds [10,260 mt], or approximately 72 percent of all catch limits), the impact of maintaining 2017 catch levels in these Areas would have a significant impact on the overall condition of the halibut resource.

Alternative 1: Maintain Catch Levels Equal to Those Adopted by the IPHC in 2017

In 2017, the IPHC recommended to the governments of Canada and the United States catch limits for 2017 totaling 31,400,000 pounds (14,243 mt). Maintaining catch limits in all Areas, including Areas 2C, 3A, 3B, 4A, 4B, 4C, 4D, and 4E, equal to 2017 would have several short-term and possibly long-term adverse impacts on the halibut resource.

If the 2017 catch limits were applied in all Areas in 2018, the spawning stock biomass is projected to decrease substantially over the next three years (2019 through 2021). Under this harvest alternative there is estimated to be greater than a 99 percent chance that the spawning biomass will be lower in 2019, and a 34 percent chance that it will be more than 5 percent lower than the current level of 202,000,000 pounds (91,626 mt). Under this alternative catch limit, there is a 99 percent chance that the spawning biomass will be lower than the current level in 2021, and an 89 percent chance that it will be more than 5 percent lower than the current level of 202,000,000 pounds (91,626 mt). In 2021, there is a substantial chance (23 percent) that the spawning biomass will decline below the threshold reference point (30 percent of the spawning stock biomass remains) used by the IPHC to indicate stock conditions that would trigger a substantial reduction in the commercial halibut fishery under the interim IPHC management procedure. Overall, the IPHC assessment predicts that the spawning stock biomass would decrease continuously between 2019 and 2021 under this catch limit alternative (see Section 3.3 of the Analysis).

Under this alternative, if the 2017 catch limits were applied in all Areas in 2018, the future fishery yield, using the reference fishing intensity of F46% SPR, is also projected to decrease substantially over the next three years (2019 through 2021). The fishery yield is the amount of harvest available for harvest by commercial, recreational, and subsistence users. The IPHC estimates an 80 percent chance that the coastwide fishery yield will be lower than the status quo of 40,800,000 pounds (18,507 mt) in 2019, and a 76 percent chance that it will be more than 10 percent lower. Under this alternative, the IPHC estimates at least an 81 percent chance that the coastwide fishery yield will be lower than 40,800,000 pounds (18,507 mt) in 2020 and 2021, and at least a 77 percent chance that it will be more than 10 percent lower in 2020 and 2021. This alternative would provide the highest short-term catch limits and the most harvest opportunities for 2018 of the three alternative catch limit scenarios described in this preamble. Sections 3 and 4 of the Analysis summarize the biological and economic impacts of this alternative.

Alternative 2: Reduce Catch Limits as Endorsed by the U.S. Commissioners But Not Recommended by the IPHC

After considering the range of stock assessment, commercial fishery, and other biological information at its 2018 annual meeting, the U.S. Commissioners to the IPHC stated that maintaining 2018 catch limits in Areas 2C, 3A, 3B, 4A, 4B, 4C, 4D, and 4E at the same level as those implemented in 2017 would not be consistent with its conservation objectives for the halibut stock and its management objectives for the halibut fisheries. Specifically, the Protocol in Article III states that the Commission may limit the quantity of the catch “for the purpose of developing the stocks of halibut . . . to levels which will permit the optimum yield from that fishery, and of maintaining the stocks at those levels . . .” The U.S. Commissioners provided rationale that supported the catch limits under this alternative and implemented by this rule, including the following:

• The IPHC survey, IPHC stock assessment, and supporting information from trawl and longline surveys conducted by NMFS indicated substantial reductions in the spawning stock biomass and potential fishery yield of halibut in 2018 compared to 2017.

• The IPHC stock assessment identified poor recruitment entering in the portion of the halibut stock on which the fishery relies over the foreseeable future and those trends are worsened with higher harvest rates.

• Although the IPHC survey is a “snapshot” of the health of the resource, the results from the survey are further substantiated by declining trends in Bering Sea and Gulf of Alaska trawl surveys, and declining trends in commercial fishery weight-per-unit-effort (WPUE) in most areas (Areas 2C, 3A, 3B, 4A, 4B, 4C, 4D, and 4E). The IPHC survey indicates a 10 percent reduction in survey WPUE, and a 24 percent reduction in survey numbers-per-unit-effort (NPUE) coastwide.

• Since 2010, within Areas 2C, 3A, 3B, 4A, 4B, 4C, 4D, and 4E, the U.S. has consistently been conservative in setting catch limits at, below, or slightly over the reference levels for the Areas that reflected the IPHC interim management.

The U.S. Commissioners considered information indicating that commercial WPUE in some Areas was higher in 2017 relative to 2016. These commercial data have led some fishery participants to suggest that the surveys and IPHC stock assessment do not adequately reflect the abundance of harvestable halibut. The U.S. Commissioners noted that there is no indication that the surveys or assessment are inaccurate to any significant degree and are the best scientific information available for estimating halibut abundance (see Section 3.3 of the Analysis for additional detail).

The U.S. Commissioners noted that establishing catch limits using the reference fishing intensity of F46% SPR would impose significant economic costs on the commercial and charter operators in Areas 2C, 3A, 3B, 4A, 4B, 4C, 4D, and 4E (see Section 3.3 of the Analysis for additional detail). Therefore, the U.S. Commissioners stated their support for catch limits that would effectively result in reducing catch limits by an amount that is an average between the 2017 catch limits and the catch limits using the reference fishing intensity of F46% SPR. The U.S. Commissioners supported this approach to provide some additional harvest opportunities, but noted that the IPHC stock assessment, IPHC survey, and potential risks to the long-term sustainability of the halibut resource do not support larger catch limits.

Overall, the catch limits supported by the U.S. Commissioners in Areas 2C, 3A, 3B, 4A, 4B, 4C, 4D, and 4E would result in moderate decreases relative to 2017 consistent with the best scientific information available on the abundance of harvestable halibut within these Areas. Under this alternative, catch limits correspond to a projected fishing intensity of F41% SPR, which would represent a slight decrease in fishing intensity from the value for 2017 of F40% SPR estimated prior to the start of fishing in 2017, and less fishing intensity than Alternative 1 (F38%) estimated after the end of fishing in 2017.

As shown in Table 1, in some Areas (e.g., Area 4A) the catch limit reductions from 2017 to 2018 are relatively small because the IPHC survey indicates that the biomass in those Areas in 2017 decreased by only a small proportion. Therefore, the relatively small reduction in those Areas reflects the relatively small decrease in the survey estimate. In other Areas (e.g., Area 3B) the IPHC survey indicates that the biomass in 2017 decreased by a larger proportion. Table 1 summarizes the change in catch limits in Areas 2C, 3A, 3B, 4A, 4B, 4C, 4D, and 4E from 2017 to 2018 under this alternative implemented by this interim final rule.

Table 1—Percent Change in Catch Limits From 2017 to 2018 in Areas 2C, 3A, 3B, 4A, 4B, 4C, 4D, and 4E Under Alternative 2
Area | 2017 catch limit (pounds) | 2018 catch limit implemented under alternative 2 (pounds) | Change from 2017 (percent)
2C | 5,250,000 | 4,450,000 | −15.2
3A | 10,000,000 | 9,450,000 | −5.5
3B | 3,140,000 | 2,620,000 | −16.6
4A | 1,390,000 | 1,370,000 | −1.4
4B | 1,140,000 | 1,050,000 | −7.9
4CDE | 1,700,000 | 1,580,000 | −7.1
Total (2C-4) | 22,620,000 | 20,520,000 | −9.3

Table 1 shows the combined commercial and charter allocations for Area 2C and Area 3A under the CSP. This value includes allocations to the charter sector, including charter fishing incidental mortality, and an amount for the combined commercial landings and discard mortality. The 2018 commercial catch limits after deducting discard mortality are 3,570,000 pounds (1,619 mt) in Area 2C and 7,350,000 pounds (3,334 mt) in Area 3A.

If the 2018 catch limits endorsed by U.S. Commissioners for Areas 2A, 2C, 3A, 3B, 4A, 4B, 4C, 4D, and 4E and the 2018 catch limit endorsed by the Canadian Commissioners for 2B were applied in 2018, the spawning stock biomass is still projected to decrease substantially over the next three years (2019 through 2021). Under this harvest alternative, there is an estimated 93 percent chance that the spawning biomass will be lower than the current level in 2019, and a 19 percent chance that it will be more than 5 percent lower than the current level of 202,000,000 pounds (91,626 mt). Under this alternative catch limit, there is a 92 percent chance that the spawning biomass will be lower in 2021, and a 72 percent chance that it will be more than 5 percent lower than the current level of 202,000,000 pounds (91,626 mt). In 2021, there is a chance (17 percent) that the spawning biomass will decline below the threshold reference point (30 percent of the spawning stock biomass remains) used by the IPHC to indicate stock conditions that would trigger a substantial reduction in the commercial halibut fishery under the interim management procedure. Overall, the IPHC assessment predicts that the spawning stock biomass would decrease continuously between 2019 and 2021 under this catch limit alternative (see Section 3.3 of the Analysis).

Under this alternative, if 2018 catch limits endorsed by U.S. Commissioners were applied in all Areas in 2018, the future fishery yield, using the reference fishing intensity of F46% SPR, is projected to decrease substantially over the next three years (2019 through 2021), but less so than Alternative 1. The IPHC estimates a 73 percent chance that the coastwide fishery yield will be lower than a coastwide fishery yield of 37,200,000 pounds (16,874 mt) in 2019, and a 63 percent chance that it will be more than 10 percent lower. Under this alternative, the IPHC estimates at least a 75 percent chance that the coastwide fishery yield will be lower than 37,200,000 pounds (16,874 mt) in 2020 and 2021, and at least a 67 percent chance that it will be more than 10 percent lower in 2020 and 2021. Sections 3 and 4 of the Analysis summarize the biological and economic impacts of this alternative.

Alternative 3: Reduce Catch Limits Consistent With the IPHC's Interim Management Procedure

The U.S. and Canadian Commissioners also considered an alternative catch limit that would establish catch limits in all regulatory areas consistent with the IPHC's interim management procedure. Neither the U.S. nor the Canadian Commissioners recommended catch limits that were consistent with the IPHC's interim management procedure. As described in the previous section of this preamble, the U.S. Commissioners observed that establishing catch limits using the reference fishing intensity of F46% SPR would impose significant economic costs on commercial and charter operators in Areas 2C, 3A, 3B, 4A, 4B, 4C, 4D, and 4E (see Section 4 of the Analysis for additional detail).

If the catch limits consistent with the IPHC's interim management procedure were implemented in all Areas in 2018, the spawning stock biomass is still projected to decrease over the next three years (2019 through 2021), but less than under Alternatives 1 and 2. Under this harvest alternative, there is an estimated 78 percent chance that the spawning biomass will be lower than the current level in 2019, and a 5 percent chance that it will be more than 5 percent lower than the current level of 202,000,000 pounds (91,626 mt). Under this alternative catch limit, there is a 76 percent chance that the spawning biomass will be lower than the current level in 2021, and a 46 percent chance that it will be more than 5 percent lower than the current level of 202,000,000 pounds (91,626 mt). In 2021, there is a chance (10 percent) that the spawning biomass will decline below the threshold reference point (30 percent of the spawning stock biomass remains) used by the IPHC to indicate stock conditions that would trigger a substantial reduction in the commercial halibut fishery under the interim management procedure. Overall, the IPHC assessment predicts that the spawning stock biomass would decrease continuously between 2019 and 2021 under this catch limit alternative (see Section 3.3 of the Analysis).

Under this alternative, if 2018 catch limits consistent with the IPHC's interim management procedure were applied in all Areas in 2018, the future fishery yield, using the reference fishing intensity of F46% SPR, is projected to decrease substantially over the next three years (2019 through 2021), but less so than Alternatives 1 and 2. The IPHC estimates a 55 percent chance that the coastwide fishery yield will be lower than 31,000,000 pounds (14,061 mt) in 2019, and a 38 percent chance that it will be more than 10 percent lower. Under this alternative, the IPHC estimates at least a 59 percent chance that the fishery yield will be lower than a coastwide fishery yield of 31,000,000 pounds (14,061 mt) in 2020 and 2021, and at least a 45 percent chance that it will be more than 10 percent lower in 2020 and 2021. Sections 3 and 4 of the Analysis summarize the biological and economic impacts of this alternative.

Catch Limits for Areas 2C, 3A, 4A, 4B, 4C, 4D, and 4E Implemented Under This Rule

After considering the best available scientific information, the Convention, the status of the halibut resource, and the potential social and economic costs of the three alternative catch limits described in this preamble, NMFS implements through this interim final rule catch limits that are consistent with catch limits endorsed by the U.S. Commissioners but not recommended by the IPHC (Alternative 2).

This interim final rule adds a new provision at 50 CFR 300.68(a)(1) to implement catch limits for Areas 2C, 3A, 3B, 4A, 4B, 4C, 4D, and 4E in 2018. Consistent with the authority under the Convention and the Halibut Act, the regulations implemented at § 300.68(a)(1) under this interim final rule supersede the allocations for Areas 2C, 3A, 3B, 4A, 4B, 4C, 4D, and 4E that are described in section 12 of the 2018 IPHC annual management measures (83 FR 10390, March 9, 2018).

Catch Sharing Plan for Area 2C and Area 3A Implemented Under This Rule

In 2014, NMFS implemented a CSP for Area 2C and Area 3A. The CSP defines an annual process for allocating halibut between the charter and commercial fisheries in Area 2C and Area 3A, and establishes allocations for each fishery. To allow flexibility for individual commercial and charter fishery participants, the CSP also authorizes annual transfers of commercial halibut IFQ as GAF to charter halibut permit holders for harvest in the charter fishery. Under the CSP, the IPHC recommends combined catch limits (CCLs) for the charter and commercial halibut fisheries in Area 2C and Area 3A. Each CCL includes estimates of discard mortality (wastage) for each fishery. The CSP was implemented to achieve the halibut fishery management goals of the NPFMC. More information is provided in the final rule implementing the CSP (78 FR 75844, December 12, 2013). Implementing regulations for the CSP are at 50 CFR 300.65. The Area 2C and Area 3A CSP allocation tables are located in Tables 1 through 4 of subpart E of 50 CFR part 300. Based on the catch limit implemented by this interim final rule, the CCL for Area 2C would be 4,450,000 pounds (2,018 mt). Following the CSP allocations in Tables 1 and 3 of subpart E of 50 CFR part 300, the charter fishery is allocated 810,000 pounds (367 mt) of the CCL and the remainder of the CCL, 3,640,000 pounds (1,6518 mt), is allocated to the commercial fishery. Discard mortality of halibut over 26 inches in length (termed “wastage” in the CSP) in the amount of 70,000 pounds (32 mt) was deducted from the commercial allocation to obtain the commercial catch limit of 3,570,000 pounds (1,619 mt). Relative to 2017, the commercial allocation decreased by about 695,000 pounds (315 mt) or 16.0 percent, from the 2017 allocation of 4,335,000 pounds (1,966 mt) (including discard mortality). The charter allocation for 2018 is about 810,000 pounds (367 mt), or 11.5 percent less than the charter sector allocation of 915,000 pounds (415 mt) in 2017.

Based on the catch limit implemented by this interim final rule, the CCL for Area 3A is 9,450,000 pounds (4,826 mt). Following the CSP allocations in Tables 2 and 4 of subpart E of 50 CFR part 300, the charter fishery is allocated 1,790,000 pounds (812 mt) of the CCL and the remainder of the CCL, 7,670,000 pounds (3,479 mt), is allocated to the commercial fishery. Discard mortality in the amount of 320,000 pounds (145 mt) was deducted from the commercial allocation to obtain the commercial catch limit of 7,350,000 pounds (3,334 mt). The commercial allocation decreased by about 450,000 pounds (204 mt) or 5.5 percent, from the 2017 allocation of 8,110,000 pounds (3,679 mt) (including discard mortality). The charter allocation decreased by about 100,000 pounds (45 mt), or 5.6 percent, from the 2017 allocation of 1,890,000 pounds (857 mt).

This interim final rule adds a new provision at 50 CFR 300.68(a)(2) to implement the catch sharing plan for Areas 2C and 3A in 2018. Consistent with the authority under the Convention and the Halibut Act, the regulations implemented at § 300.68(a)(2) under this interim final rule supersede the commercial and charter fishery allocations for Area 2C and Area 3A that are described in sections 29(2)(a) and 29(3)(a) of the 2018 IPHC annual management measures (83 FR 10390, March 9, 2018).

Charter Halibut Management Measures for Area 2C and Area 3A Implemented Under This Rule

Guided (charter) recreational halibut anglers are managed under different regulations than unguided recreational halibut anglers in Areas 2C and 3A in Alaska. According to Federal regulations at 50 CFR 300.61, a charter vessel angler means a person, paying or non-paying, receiving sport fishing guide services for halibut. Sport fishing guide services means assistance, for compensation or with the intent to receive compensation, to a person who is sport fishing, to take or attempt to take halibut by accompanying or physically directing the sport fisherman in sport fishing activities during any part of a charter vessel fishing trip. A charter vessel fishing trip is the time period between the first deployment of fishing gear into the water from a charter vessel by a charter vessel angler and the offloading of one or more charter vessel anglers or any halibut from that vessel. The charter fishery regulations described below apply only to charter vessel anglers receiving sport fishing guide services during a charter vessel fishing trip for halibut in Area 2C or Area 3A. These regulations do not apply to GAF halibut as specified in section 29(1)(g) of the 2018 IPHC annual management measures (83 FR 10390, March 9, 2018) and described in § 300.65(c)(5), unguided recreational anglers in any regulatory area in Alaska, or guided anglers in areas other than Areas 2C and 3A.

The NPFMC formed the Charter Halibut Management Committee to provide it with recommendations for annual management measures intended to limit charter harvest to the charter catch limit while minimizing negative economic impacts to charter fishery participants in times of low halibut abundance. The committee is composed of representatives from the charter fishing industry in Areas 2C and 3A. The committee considered previously analyzed alternatives and endorsed new alternative measures to be analyzed in October 2017. After reviewing an analysis of the effects of the alternative measures on estimated charter removals, the committee made recommendations for preferred 2018 management measures to the NPFMC. The NPFMC considered the recommendations of the committee, its industry advisory body, and public testimony to develop its recommendation to the IPHC. The NPFMC has used this process to select and recommend annual management measures to the IPHC since 2012.

This interim final rule implements management measures that are consistent with NPFMC policies and regulations that allocate the Pacific halibut resource among fishermen in and off Alaska to support the NPFMC's goals of limiting charter harvests to the sector's allocation under the CSP. Based on the catch limits implemented by this interim final rule, specific charter management measures would need to be revised to limit the Area 2C and Area 3A charter halibut fisheries to their charter catch limits under the CSP. These revisions achieve the overall conservation objective to limit total halibut harvests to established catch limits, and to meet the NPFMC's allocation objectives for these areas. The management measures discussed below would meet these objectives. All other charter management measures are described in the 2018 IPHC annual management measures (83 FR 10390, March 9, 2018).

Revised Management Measures for Charter Vessel Fishing in Area 2C—Reverse Slot Limit

This interim final rule implements a reverse slot limit which is in addition to, and not in conflict with regulations adopted by the IPHC in section 29(2)(c) in the 2018 IPHC annual management measures (83 FR 10390, March 9, 2018). This interim final rule implements a reverse slot limit that prohibits a person on board a charter vessel referred to in 50 CFR 300.65 and fishing in Area 2C from taking or possessing any halibut, with head on, that is greater than 38 inches (96.5 cm) and less than 80 inches (203.2 cm), as measured in a straight line, passing over the pectoral fin from the tip of the lower jaw with mouth closed, to the extreme end of the middle of the tail. The 2017 reverse slot limit prohibited retention by charter vessel anglers of halibut that were greater than 44 inches (111.8 cm) and less than 80 inches. The projected charter removal under the 2018 recommended reverse slot limit is 809,000 pounds (367 mt), 1,000 pounds (0.45 mt) below the charter allocation.

This interim final rule adds a new provision at 50 CFR 300.68(b)(1) to establish this reverse slot limit in Area 2C. Consistent with the authority under the Convention and the Halibut Act, the regulations implemented at § 300.68(b)(1) under this interim final rule supersede the reverse slot limit for charter vessels fishing in Area 2C that is described in section 29(2)(c) of the 2018 IPHC annual management measures (83 FR 10390, March 9, 2018).

Management Measures for Charter Vessel Fishing in Area 3A—Day-of-Week Closures

The NPFMC recommended using day-of-week closures for Area 3A in 2018. This interim final rule establishes day-of-week closures that are consistent with the NPFMC recommendation and which are in addition to, and not in conflict with regulations adopted by the IPHC in section 29(3)(f) of the 2018 IPHC annual management measures (83 FR 10390, March 9, 2018). This interim final rule does not modify the day of week closures under 2018 IPHC annual management measures (83 FR 10390, March 9, 2018) that prohibits retention of halibut by charter vessel anglers in Area 3A on Wednesdays. This interim final rule establishes day-of-week closures on the following Tuesdays in 2018: July 10, July 17, July 24, July 31, August 7, and August 14. These closures supersede the day-of-week closures listed in the 2018 IPHC annual management measures (83 FR 10390, March 9, 2018). Consistent with the existing Wednesday closure, no retention of halibut by charter vessel anglers is allowed on these dates in Area 3A. Retention of only GAF halibut will be allowed on charter vessels on Wednesdays and the six closed Tuesdays; all other halibut that are caught while fishing on a charter vessel must be released. This interim final rule adds three Tuesday closures that are not listed in the 2018 IPHC annual management measures (83 FR 10390, March 9, 2018). The addition of the three Tuesday closures for 2018 is expected to reduce charter halibut harvest below the charter catch limit. The projected charter removal under the 2018 management measures is 1,777,000 pounds (806 mt), 13,000 pounds (6 mt) below the charter allocation.

This interim final rule adds a new provision at 50 CFR 300.68(b)(2) to establish these new Tuesday closures in Area 3A. Consistent with the authority under the Convention and the Halibut Act, the regulations implemented at § 300.68(b)(2) under this interim final rule supersede the Tuesday closures for charter vessels fishing in Area 3A that is described in section 29(3)(f) of the 2018 IPHC annual management measures (83 FR 10390, March 9, 2018).

Catch Sharing Plan for Areas 4CDE Implemented Under This Rule

The allocation to Areas 4CDE that is based on the CSP adopted by the NPFMC as described in this preamble, and the allocation to Areas 4CDE is contained in the table in the regulations at 50 CFR 300.68(a)(1).

Classification

The Administrator, Alaska Region, NMFS, determined that this interim final rule is necessary for the conservation and management of the Pacific halibut fishery and that it is consistent with the Convention, the Halibut Act, and other applicable laws. Halibut annual management measures are a product of an agreement between the United States and Canada and are published in the Federal Register to provide notice of their effectiveness and content. However, for 2018, because the United States and Canada were not able to reach agreement on all management measures, additional halibut annual management measures will be promulgated by the Secretary of Commerce pursuant to section 4 of the Northern Pacific Halibut Act of 1982, 16 U.S.C. 773c(a) and (b).

This interim final rule is consistent with the objective of the Convention to develop the stocks of halibut of the Northern Pacific Ocean and Bering Sea to levels which will permit the optimum yield from that fishery, and to maintain the stocks at those levels. NMFS and the U.S. Commissioners considered the best available science when endorsing the catch limits and other management measures implemented by this interim final rule. Specifically, NMFS and the U.S. Commissioners considered the most recent stock assessments conducted by the IPHC, surveys, and the Analysis conducted for this interim final rule.

This interim final rule has been determined to be not significant for purposes of Executive Order 12866.

Without adoption of this interim final rule, the Pacific halibut stocks will be harvested at a rate NMFS and the U.S. Commissioners have determined to be unacceptably high based on the best available science. Further, it is imperative to publish these regulations prior to the opening of the season under the 2018 IPHC annual management measures (83 FR 10390, March 9, 2018) to avoid confusion to affected public regarding legal behavior while conducting Pacific halibut fisheries in Convention waters off the U.S. Therefore, pursuant to 5 U.S.C. 553(b)(B), there is good cause to waive prior notice and an opportunity for public comment on this action, as notice and comment would be impracticable and contrary to the public interest. Because of the timing of the start of the Pacific halibut fishery, which begins on March 24, 2018, it is impracticable to complete rulemaking before the start of the fishery with a public review and comment period. This interim final rule implements commercial catch limits and charter halibut management measures consistent with the endorsements made by U.S. Commissioners to the IPHC at the annual meeting of the IPHC that concluded on January 26, 2018. With the fishery scheduled to open on March 24, 2018, NMFS must ensure that the prosecution of a fishery would not result in substantial harm to the Pacific halibut resource that could occur if the additional time necessary to provide for prior notice and comment and agency processing delayed the effectiveness of this action beyond March 24, 2018.

There also is good cause under 5 U.S.C. 553(d)(3) to waive the 30-day delay in effectiveness. These management measures must be effective by March 24, 2018, when the Pacific halibut fishery is scheduled to open by regulations adopted by the IPHC. These management measures are necessary to prevent substantial harm to the Pacific halibut resource. The immediate effectiveness of these regulations avoids confusion to the affected public that could occur if these management measures are not effective on March 24, 2018. Accordingly, it is impracticable to delay for 30 days the effective date of this rule. Therefore, good cause exists to waive the 30-day delay in effectiveness pursuant to 5 U.S.C. 553(b)(3), and to make the rule effective upon filing for public inspection with the Office of the Federal Register.

Although we are waiving prior notice and opportunity for public comment, we are requesting post-promulgation comments until April 19, 2018. Please see ADDRESSES for more information on the ways to submit comments.

Because prior notice and opportunity for public comment are not required for this rule by 5 U.S.C. 553, or any other law, the analytical requirements of the Regulatory Flexibility Act, 5 U.S.C. 601 et seq., are inapplicable.

List of Subjects in 50 CFR Part 300

Alaska, Fisheries, Treaties.

Dated: March 15, 2018.
Samuel D. Rauch III,
Deputy Assistant Administrator for Regulatory Programs, National Marine Fisheries Service.

For the reasons set out in the preamble, 50 CFR part 300, subpart E, is amended as follows:

PART 300—INTERNATIONAL FISHERIES REGULATIONS

Subpart E—Pacific Halibut Fisheries

1. The authority citation for subpart E continues to read as follows:

Authority: 16 U.S.C. 773-773k.

2. Add § 300.68 to subpart E to read as follows:

§ 300.68 2018 Management Measures for Areas 2C, 3A, 3B, 4A, 4B, 4C, 4D, and 4E.

Notwithstanding § 300.65(c)(2), (c)(3)(i), and (c)(4)(i), this section establishes catch limits for Areas 2C, 3A, 3B, 4A, 4B, 4C, 4D, and 4E, catch sharing plan allocations for Areas 2C and 3A, Catch Sharing Plan allocations for Areas 4C, 4D, and 4E, and charter halibut management measures for Areas 2C and 3A effective March 19, 2018, through December 31, 2018.

(a) Catch limits for Areas 2C, 3A, 3B, 4A, 4B, 4C, 4D, and 4E in 2018—(1) Commercial catch limits. The total allowable commercial catch of halibut to be taken during the commercial halibut fishing periods specified by the Commission shall be limited in net weights expressed in pounds and metric tons shown in the following table:

IPHC regulatory area | Commercial catch limit—net weight: Pounds | Commercial catch limit—net weight: Metric tons
2C | 3,570,000 | 1,619.32
3A | 7,350,000 | 3,333.91
3B | 2,620,000 | 1,188.41
4A | 1,370,000 | 621.42
4B | 1,050,000 | 476.27
4C | 733,500 | 332.71
4D | 733,500 | 332.71
4E | 113,000 | 51.26

(2) Annual guided sport catch limits in Area 2C and Area 3A. The annual guided sport catch limit:

(i) In Area 2C is 810,000 pounds (367.41 metric tons); and

(ii) In Area 3A is 1,790,000 pounds (811.93 metric tons).

(3) Annual commercial catch limits in Area 2C and Area 3A. The annual commercial catch limit:

(i) In Area 2C is 3,570,000 pounds (1,619.32 metric tons); and

(ii) In Area 3A is 7,350,000 pounds (3,333.91 metric tons).

(b) Additional requirements for charter vessels for Area 2C and Area 3A in 2018—(1) Area 2C. In addition to complying with regulations adopted by the Commission as annual management measures, and published in the Federal Register as required in § 300.62, no person on board a charter vessel as defined in § 300.61 shall catch and retain any halibut that with head on is greater than 38 inches (96.5 cm) and less than 80 inches (203.2 cm) as measured in a straight line, passing over the pectoral fin from the tip of the lower jaw with mouth closed, to the extreme end of the middle of the tail.

(2) Area 3A. In addition to complying with regulations adopted by the Commission as annual management measures, and published in the Federal Register as required in § 300.62, no person on board a charter vessel as defined in § 300.61 may catch and retain halibut on any Wednesday in 2018, or on the following Tuesdays: July 10, July 17, July 24, July 31, August 7, and August 14 in 2018.

[FR Doc. 2018-05623 Filed 3-19-18; 8:45 am]

BILLING CODE 3510-22-P